ENVIRONMENTAL PROTECTION AGENCY

[EPA-HQ-OPP-2006-0084; FRL-7762-4]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by August 21, 2006, orders will be issued canceling these registrations. The Agency will consider withdrawal requests postmarked no later than August 21, 2006.

FOR FURTHER INFORMATION CONTACT: John Jamula, Information Technology and Resource Management Division (7502C), Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number EPA-HQ-OPP-2006-0084. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

EDOCKET, EPA's electronic public docket and comment system was replaced on November 25, 2005, by an enhanced Federal-wide electronic docket management and comment system located at http://www.regulations.gov/. Follow the on-line instructions.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces receipt by the Agency of applications from registrants to cancel 90 pesticide products registered under section 3 or 24(c) of FIFRA. These registrations are listed in sequence by registration number (or company number and 24(c) number) in Table 1 of this unit:

Table 1.—Registrations with Pending Requests for Cancellation
Registration no. | Product Name | Chemical Name
000100-01074 | Cyclone Concentrate Herbicide | Paraquat dichloride
000100 CA 91-0022 | Gramoxone Extra Herbicide | Paraquat dichloride
000100 CA 92-0006 | Gramoxone Extra Herbicide | Paraquat dichloride
000100 ID 01-0007 | Cyclone Concentrate/Gramoxone Max | Gas cartridge (as a device for burrowing animal control)
|  | Paraquat dichloride
000228-00202 | Riverdale Dibro Granular Weed Killer | Bromacil
|  | Diuron
000228-00233 | Dibro 1 Granular Weed Killer | Bromacil
|  | Diuron
000228-00234 | Riverdale Dibro 2+4 | Bromacil
|  | Diuron
000228-00235 | Riverdale Dibro 4+4 Granular Weed Killer | Bromacil
|  | Diuron
000228-00236 | Riverdale Dibro 5+4 | Bromacil
|  | Diuron
000228-00273 | Riverdale Diuron 80 WP Weed Killer | Diuron
000228-00308 | Topsite 2.5G Herbicide | Diuron
|  | Imazapyr
000241-00268 | Prowl DG Herbicide | Pendimethalin
000241-00321 | Scepter O.T. Herbicide | Benzoic acid, 5-(2-chloro-4-(trifluoromethyl)phenoxy)-2-nitro-, sodium salt
|  | 3-Quinolinecarboxylic acid, 2-(4,5-dihydro-4-methyl-4-(1-methylethyl)-5-oxo-1H-imidazol-2-yl
000241-00338 | Pentagon 60 DG Herbicide | Pendimethalin
000264 OR 80-0063 | Nemacur 3 Emulsifiable Nematicide | Fenamiphos
000264 OR 81-0039 | Sencor 4 Flowable Herbicide | Metribuzin
000264 OR 81-0040 | Sencor 75 Wettable Granular Herbicide | Metribuzin
000264 OR 84-0032 | Di-Syston 8 | Disulfoton
000264 OR 85-0019 | Sencor 4 Flowable Herbicide | Metribuzin
000264 OR 91-0027 | Di - Syston 8 | Disulfoton
000264 OR 93-0012 | Bayleton 50% Wettable Powder | Triadimefon
000264 OR 99-0049 | Guthion Solupak 50% Wettable Powder Insecticide | Azinphos-Methyl
000270-00260 | Farnam Turbo | Diazinon
|  | Piperonyl butoxide
000352 CA 00-0007 | Dupont Oust Herbicide | Sulfometuron
000352 ID 00-0019 | Dupont Oust Herbicide | Sulfometuron
000352 MN 95-0006 | Dupont Oust Herbicide | Sulfometuron
000352 NV 99-0009 | Dupont Oust Herbicide | Sulfometuron
000352 SC 95-0001 | Dupont Oust Herbicide | Sulfometuron
000352 WA 00-0008 | Dupont Oust Herbicide | Sulfometuron
000352 WA 93-0002 | Dupont Krovar I DF Herbicide | Bromacil
|  | Diuron
000352 WA 95-0021 | Dupont Oust Herbicide | Sulfometuron
000352 WI 96-0001 | Dupont Oust Herbicide | Sulfometuron
000829-00142 | SA-50 Brand Sevin 50W Insecticide | Carbaryl
002749-00059 | Diuron 80 WP Weed Killer | Diuron
004787-00037 | Cyren MUC | Chlorpyrifos
004787-00039 | Cyren 150 Concentrate | Chlorpyrifos
004787-00047 | Griffin Methyl Parathion MUP | Methyl parathion
007501 OK 93-0001 | Tops 90 | Thiophanate-methyl
007501 TX 93-0006 | Tops 90 Peanut Seed Treatment | Thiophanate-methyl
007969-00077 | Galaxy Herbicide | 3-Isopropyl-1H-2,1,3-benzothiadiazin-4(3H)-one-2,2-dioxide, sodium salt
|  | Benzoic acid, 5-(2-chloro-4-(trifluoromethyl)phenoxy)-2-nitro-, sodium salt
007969-00080 | Blazer 2S Herbicide | Benzoic acid, 5-(2-chloro-4-(trifluoromethyl)phenoxy)-2-nitro-, sodium salt
007969-00168 | Conclude Ultra Herbicide | 3-Isopropyl-1H-2,1,3-benzothiadiazin-4(3H)-one-2,2-dioxide, sodium salt
|  | Benzoic acid, 5-(2-chloro-4-(trifluoromethyl)phenoxy)-2-nitro-, sodium salt
|  | Sethoxydim
007969-00179 | Conclude Xact | 3-Isopropyl-1H-2,1,3-benzothiadiazin-4(3H)-one-2,2-dioxide, sodium salt
|  | Benzoic acid, 5-(2-chloro-4-(trifluoromethyl)phenoxy)-2-nitro-, sodium salt
|  | Sethoxydim
008999-00004 | Aquarium Algae Clear Liquid | Copper sulfate pentahydrate
|  | Diuron
008999-00005 | Algae Clear | Copper sulfate pentahydrate
|  | Diuron
009198-00106 | The Andersons Tee Time Fertilizer with Sevin (r) | Carbaryl
010163 WA 98-0015 | Gowan Endosulfan 3EC | Endosulfan
010163 WA 99-0025 | Gowan Endosulfan 3EC | Endosulfan
010163 WA 99-0032 | Gowan Endosulfan 3EC | Endosulfan
011715-00006 | Speer Insect Killer (with .35% SBP-1382) | Resmethrin
011715-00023 | Speer Equine Spray | 2,5-Pyridinedicarboxylic acid, dipropyl ester
|  | 4,7-Methano-1H-isoindole-1,3(2H)-dione, 2-(2-ethylhexyl)-3a,4,7,7a-tetrahydro-
|  | Piperonyl butoxide
|  | Pyrethrins
011715-00047 | Speer Aircraft Insecticide Aerosol | Piperonyl butoxide
|  | Pyrethrins
011715-00091 | Magic Guard Automatic Sequential Insecticide | Piperonyl butoxide
|  | Pyrethrins
011715-00119 | Better World Dairy Spray | Piperonyl butoxide
|  | Pyrethrins
011715-00148 | Magic Guard Automatic Room Fogger Formula II | 2-Methyl-4-oxo-3-(2-propenyl)-2-cyclopenten-1-yl d-trans-2,2-dimethyl-3-(2-methyl-1-propenyl
|  | Piperonyl butoxide
|  | Resmethrin
011715-00158 | Magic Guard with Rotenone/pyrethrins | Pyrethrins
|  | Rotenone
|  | Cube Resins other than rotenone
011715-00159 | Speer E-Z Way Residual Crack & Crevice Injection Sy | Tetramethrin
|  | Fenvalerate
011715-00165 | Better World Residual Roach and Flea Spray | 2-Methyl-4-oxo-3-(2-propenyl)-2-cyclopenten-1-yl d-trans-2,2-dimethyl-3-(2-methyl-1-propenyl
|  | 4,7-Methano-1H-isoindole-1,3(2H)-dione, 2-(2-ethylhexyl)-3a,4,7,7a-tetrahydro-
|  | Piperonyl butoxide
|  | Fenvalerate
011715-00169 | Better World Insecticide | Resmethrin
011715-00173 | Speer Stable Spray | 2,5-Pyridinedicarboxylic acid, dipropyl ester
|  | 4,7-Methano-1H-isoindole-1,3(2H)-dione, 2-(2-ethylhexyl)-3a,4,7,7a-tetrahydro-
|  | Piperonyl butoxide
|  | Pyrethrins
011715-00177 | Magic Guard Non-Flammable Wasp Spray | 4,7-Methano-1H-isoindole-1,3(2H)-dione, 2-(2-ethylhexyl)-3a,4,7,7a-tetrahydro-
|  | Piperonyl butoxide
|  | Pyrethrins
011715-00180 | Speer E-Z II Residual Spray | 4,7-Methano-1H-isoindole-1,3(2H)-dione, 2-(2-ethylhexyl)-3a,4,7,7a-tetrahydro-
|  | Pyrethrins
|  | Fenvalerate
011715-00230 | Farnam Super-Sheen Wipe-Plus | Bioallethrin
|  | Butoxypolypropylene glycol
|  | 2,5-Pyridinedicarboxylic acid, dipropyl ester
|  | Piperonyl butoxide
011715-00234 | Farnam Wipe II Fly Protectant | Butoxypolypropylene glycol
|  | 2,5-Pyridinedicarboxylic acid, dipropyl ester
|  | Tetramethrin
|  | Phenothrin
011715-00235 | Faram Wipe-P Fly Protectant | 2,5-Pyridinedicarboxylic acid, dipropyl ester
|  | Piperonyl butoxide
|  | Pyrethrins
019713-00052 | Drexel Carbaryl 50-W | Carbaryl
019713-00334 | Aldex Sevin-10G 10% Sevin Granular Insecticide | Carbaryl
019713-00369 | Drexel Carbaryl 50% Manufacturing Concentrate | Carbaryl
033955-00462 | Acme Sevin 5% Dust | Carbaryl
033955-00533 | Acme Liquid Sevin Spray | Carbaryl
034704-00694 | Clean Crop Acephate 80 DF Seed Protectant | Acephate
045735-00024 | Carbaryl 99% Technical Grade Insecticide | Carbaryl
045735-00025 | Carbaryl 4L Flowable | Carbaryl
051036-00310 | Thiophanate-Methyl Technical | Thiophanate-methyl
051036 MS 02-0021 | Acephate 90SP | Acephate
054705-00012 | Hose'em Yard Insect Spray | Permethrin
055431-00001 | Termiticide T/C | Chlorpyrifos
059623 CA 77-0078 | Geigy Diazinon 50W (50% Wettable Powder) Insecticide | Diazinon
061282 OR 05-0021 | Prozap Zinc Phosphide Pellets | Zinc phosphide (Zn3P2)
062719-00312 | Drexel Atrazine 4F | Atrazine
062719-00313 | Atrazine 90 | Atrazine
066222-00081 | Pendimethalin Technical | Pendimethalin
066222-00082 | Repose | Pendimethalin
066222-00088 | Prodiamine Technical | 1,3-Benzenediamine, 2,6-dinitro-N1,N1-dipropyl-4-(trifluoromethyl)-
068688-00022 | Elite Residual Mist Plus | Butoxypolypropylene glycol
|  | 2,5-Pyridinedicarboxylic acid, dipropyl ester
|  | 4,7-Methano-1H-isoindole-1,3(2H)-dione, 2-(2-ethylhexyl)-3a,4,7,7a-tetrahydro-
|  | Piperonyl butoxide
|  | Pyrethrins
|  | Permethrin
068688-00026 | Elite Residual Mist Plus Concentrate | 2,5-Pyridinedicarboxylic acid, dipropyl ester
|  | 4,7-Methano-1H-isoindole-1,3(2H)-dione, 2-(2-ethylhexyl)-3a,4,7,7a-tetrahydro-
|  | Piperonyl butoxide
|  | Pyrethrins
|  | Permethrin
068688-00030 | Elite Flea and Tick Spray #8 | 2,5-Pyridinedicarboxylic acid, dipropyl ester
|  | 4,7-Methano-1H-isoindole-1,3(2H)-dione, 2-(2-ethylhexyl)-3a,4,7,7a-tetrahydro-
|  | Piperonyl butoxide
|  | Pyrethrins
068688-00031 | Elite Aloe Repellent Lotion #8 | 2,5-Pyridinedicarboxylic acid, dipropyl ester
|  | 4,7-Methano-1H-isoindole-1,3(2H)-dione, 2-(2-ethylhexyl)-3a,4,7,7a-tetrahydro-
|  | Piperonyl butoxide
|  | Pyrethrins
068688-00050 | Heartland Freeze Brand Wasp and Hornet Killer | Resmethrin
080697-00002 | Krop-Max | Cyanamide

Unless a request is withdrawn by the registrant within 180 days of publication of this notice, orders will be issued canceling all of these registrations. Users of these pesticides or anyone else desiring the retention of a registration should contact the applicable registrant directly during this 180-day period.

Table 2 of this unit includes the names and addresses of record for all registrants of the products in Table 1 of this unit, in sequence by EPA company number:

Table 2.—Registrants Requesting Voluntary Cancellation
EPA Company no. | Company Name and Address
000100 | Syngenta Crop Protection, Inc., Attn: Regulatory Affairs, PO Box 18300, Greensboro, NC 274198300.
000228 | Nufarm Americas Inc., 1333 Burr Ridge Parkway, Suite 125A, Burr Ridge, IL 605270866.
000241 | BASF Corp., PO Box 13528, Research Triangle Park, NC 277093528.
000264 | Bayer Cropscience LP, 2 T.W. Alexander Drive, Research Triangle Park, NC 27709.
000270 | Farnam Companies Inc., PO Box 34820, Phoenix, AZ 85067.
000352 | E.I. Du Pont De Nemours, Inc., Dupont Crop Protection (S300/427), PO Box 30, Newark, DE 197140030.
000829 | Southern Agricultural Insecticides, Inc., PO Box 218, Palmetto, FL 34220.
002749 | Aceto Agriculture Chemicals Corp., One Hollow Lane, Lake Success, NY 110421215.
004787 | Cheminova Inc., Agent For: Cheminova A/S, 1620 Eye Street Nw, Suite 615, Washington, DC 20006.
007501 | Gustafson LlC, PO Box 660065, Dallas, TX 75266.
007969 | BASF Corp., Agricultural Products, PO Box 13528, Research Triangle Park, NC 277093528.
008999 | Interpet LlC, d/b/a Aquarium Products, 180 L Penrod Ct., Glen Burnie, MD 21061.
009198 | The Andersons Lawn Fertilizer Division, Inc., dba/ Free Flow Fertilizer, PO Box 119, Maumee, OH 43537.
010163 | Gowan Co, POBox 5569, Yuma, AZ 853665569.
011715 | Speer Products Inc., 4242 B.F. Goodrich Blvd., Memphis, TN 381810993.
019713 | Drexel Chemical Co, PO Box 13327, Memphis, TN 381130327.
033955 | PBI/gordon Corp., Attn: James L. Kunstman, PO Box 014090, Kansas City, MO 641010090.
034704 | Loveland Products, Inc., PO Box 1286, Greeley, CO 80632.
045735 | Burlington Scientific Corp., 71 Carolyn Blvd., Farmingdale, NY 11735.
051036 | Micro-Flo Co. LlC, 530 Oak Ct. Drive, Memphis, TN 38117.
054705 | Lynne Zahigian Regulatory Consulting, Agent For: Lawn and Garden Products, Inc., PO Box 1566, Fallon, NV 89407.
055431 | Rusty Millar, Agent For: Arizona Chemical Group Inc., 850 Micheltorena Street, Los Angeles, CA 900262702.
059623 | California Dept of Food and Agriculture, Office of Pesticide Consultation and Analysis, 1220 N Street, Sacramento, CA 95814.
061282 | Hacco, Inc., 110 Hopkins Drive, Randolph, WI 539561316.
062719 | Dow Agrosciences LlC, 9330 Zionsville Rd 308/2e225, Indianapolis, IN 462681054.
066222 | Makhteshim-Agan of North America Inc., 4515 Falls of Neuse Rd Ste 300, Raleigh, NC 27609.
068688 | Speer Products Inc., 4242 B.F. Goodrich Blvd., Memphis, TN 38181.
080697 | Tide International USA Inc., Agent For: Zhejiang Tide Cropscience Co., Ltd, 21 Hubble, Irvine, CA 92618.

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before August 21, 2006. This written withdrawal of the request for cancellation will apply only to the applicable FIFRA section 6(f)(1) request listed in this notice. If the products have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991, (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical.

List of Subjects

Environmental protection, Pesticides and pests.

Dated: February 6, 2006.
Robert Forrest,
Acting Director, Information Technology and Resource Management Division, Office of Pesticide Programs.

[FR Doc. E6-2492 Filed 2-21-06; 8:45 am]

BILLING CODE 6560-50-S